DEPARTMENT OF COMMERCE

Foreign-Trade Zones Board

[Docket 23-2009]

Foreign-Trade Zone 119—Minneapolis-St. Paul, MN; Application for Expansion

An application has been submitted to the Foreign-Trade Zones Board (the Board) by the Greater Metropolitan Area Foreign Trade Zone Commission, grantee of Foreign-Trade Zone 119, requesting authority to expand its zone to include additional sites in the Minneapolis-St. Paul, Minnesota area. The application was submitted pursuant to the provisions of the FTZ Act, as amended (19 U.S.C. 81a-81u), and the regulations of the Board (15 CFR Part 400). It was formally filed on May 21, 2009.

FTZ 119 was approved by the Board on July 24, 1985 (Board Order 305, 50 FR 31404, 8/2/85) and was expanded on April 14, 1994 (Board Order 690, 59 FR 19692, 4/25/94). The general-purpose zone consists of the following sites: Site 1 (3,238 acres)—two adjacent parcels—Parcel 1A within the 3,002-acre Minneapolis-St. Paul International Airport, 6040 28th Avenue (500-acre activation limit) and Parcel 1B (236 acres) within the Bloomington Airport Industrial Park, southeast corner of the intersection of I-494 and State Highway 77, Bloomington; Site 2 (960 acres)—Mid-City Industrial Park, 701 24th Avenue, Minneapolis; Site 3 (13 acres)—Eagan Industrial Park, 3703 Kennebec Drive, Eagan; Site 4 (20 acres)—Minneapolis Convention Center, located at 1301 Second Avenue South, Minneapolis. Sites 5 and 6 have expired.

The applicant is now requesting to expand the zone to include additional sites in the Minneapolis-St. Paul area: Proposed Site 7 (193 acres)—Chaska Bio-Science Corporate Campus, located at the intersection of Carver County Road 10 and New U.S. Highway 212, Chaska; and, Proposed Site 8 (200 acres)—Elk Run Bio-Business Park, located on the north side of U.S. Highway 52, approximately 2 miles southeast of the City of Pine Island. The sites are owned by the City of Chaska and Tower Investments, LLC, respectively. The sites will provide warehousing and distribution services to area businesses. No specific manufacturing authority is being requested at this time. Such requests would be made to the Board on a case-by-case basis.

In accordance with the Board's regulations, Kathleen Boyce of the FTZ Staff is designated examiner to investigate the application and report to the Board.

Public comment on the application is invited from interested parties. Submissions (original and 3 copies) shall be addressed to the Board's Executive Secretary at the address listed below. The closing period for their receipt is August 3, 2009. Rebuttal comments in response to material submitted during the foregoing period may be submitted during the subsequent 15-day period (to August 17, 2009).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Kathleen Boyce at Kathleen_Boyce@ita.doc.gov or (202) 482-1346.

Dated: May 21, 2009.
Andrew McGilvray,
Executive Secretary.

[FR Doc. E9-12965 Filed 6-2-09; 8:45 am]

BILLING CODE 3510-DS-P